DEPARTMENT OF LABOR

Office of Workers' Compensation Programs

Proposed Extension of Existing Collection; Comment Request

ACTION: Notice

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Workers' Compensation Programs is soliciting comments concerning the proposal to extend OMB approval of the information collection: Certification by School Official (CM-981). A copy of the proposed information collection request can be obtained by contacting the office listed below in the ADDRESSES section of this Notice.

DATES: Written comments must be submitted to the office listed in the ADDRESSES section below on or before March 21, 2016.

ADDRESSES: Ms Yoon Ferguson, U.S. Department of Labor, 200 Constitution Ave. NW., Room S-3323, Washington, DC 20210, telephone/fax (202) 354-9647, Email ferguson.yoon@dol.gov. Please use only one method of transmission for comments (mail, fax, or Email).

SUPPLEMENTARY INFORMATION:

I. Background

In order to qualify as a dependent that is eligible for black lung benefits, a child aged 18 to 23 must be a full-time student as described in the Black Lung Benefits Act, 30 U.S.C. 901 et seq. and attending regulations 20 CFR 725.209. The CM-981 is partially completed by the appropriate district office so that the school official or registrar's office will know for which student and time period the information is being requested and is also used to verify the full-time student status. This information collection is currently approved for use through July 31, 2016.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions

The Department of Labor seeks the approval for the extension of this currently-approved information collection in order to determine the continued eligibility of students.

Type of Review: Extension.

Agency: Office of Workers' Compensation Programs.

Title: Certification by School Official.

OMB Number: 1240-0031.

Agency Number: CM-981.

Affected Public: Individuals or households, Not-for-profit institutions, State, Local or Tribal Government.

Total Respondents: 493.

Total Annual Responses: 493.

Estimated Time per Response: 10 minutes.

Frequency: On occasion.

Estimated Total Burden Hours: 82

Total Burden Cost (capital/startup): $0.

Total Burden Cost (operating/maintenance): $0.

Comments submitted in response to this notice will be summarized and/or included in the request for Office of Management and Budget approval of the information collection request; they will also become a matter of public record.

Dated: January 14, 2016.
Yoon Ferguson,
Agency Clearance Officer, Office of Workers' Compensation Programs, U.S. Department of Labor.

[FR Doc. 2016-01145 Filed 1-20-16; 8:45 am]

BILLING CODE 4510-CK-P